DEPARTMENT OF TRANSPORTATION

National Highway Traffic Safety Administration

Reports, Forms and RecordKeeping Requirements, Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on December 15, 2004 at Vol. 69, No. 240, p. 75104-05.

DATES: Comments must be submitted on or before April 25, 2005.

FOR FURTHER INFORMATION CONTACT: Larry Long at the National Highway Traffic Safety Administration, Recall Management Division, NVS-215, 400 Seventh Street, SW., Washington, DC 20590, phone 202-366-6281.

SUPPLEMENTARY INFORMATION:

National Highway Traffic Safety Administration

Title: Petitions for Hearings on Notification and Remedy of Defects.

OMB Number: 2127—0039.

Type of Request: Renewal of a currently approved information collection.

Abstract: NHTSA's statutory authority at 49 U.S.C. 30118(e) and 30120(e) specifies that on petition of any interested person, NHTSA may hold a hearing to determine whether a manufacturer of motor vehicles or motor vehicle equipment has met its obligation to notify owners, purchasers, and dealers of vehicles or equipment of a defect or noncompliance and to remedy a defect or noncompliance with a Federal motor vehicle safety standard for some of the products the manufacturer produces.

To address these areas, NHTSA has promulgated 49 CFR Part 557, Petitions for Hearings on Notification and Remedy of Defects, which adopts a uniform regulation that establishes procedures to provide for submissions and disposition of petitions, and to hold hearings on the issue of whether the manufacturer has met its obligation to notify owners, distributors, and dealers of safety related defects or noncompliance and to remedy the problems by repair, repurchase, or replacement.

Affected Public: Businesses or individuals.

Estimated Total Annual Burden: 2 annual hours burden (2 petitions times 1 hour per petition).

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department including whether the information will have practical utility; the accuracy of the Department's estimate of the burden of the proposed information collection; ways to enhance the quality, utility and clarity of the information to be collected; and ways to minimize the burden of the collection of information on respondents, including the use of automated collection techniques or other forms of information technology.

A Comment to OMB is most effective if OMB receives it within 30 days of publication.

Kathleen C. DeMeter,
Director, Office of Defects Investigation.

[FR Doc. 05-5845 Filed 3-23-05; 8:45 am]

BILLING CODE 4910-59-P